DEPARTMENT OF ENERGY

Federal Energy Regulatory Commission

[Docket No. RP97-431-010]

Natural Gas Pipeline Company of America; Notice of Compliance Filing

November 15, 2000.

Take notice that on November 9, 2000, Natural Gas Pipeline Company of America (Natural) tendered for filing to be part of its FERC Gas Tariff, Sixth Revised Volume No. 1, certain tariff sheets, to be effective December 1, 2000.

Natural states that these tariff sheets are being filed in compliance with the Commission's “Order Accepting Contested Settlement with Modifications” issued October 26, 2000 in Docket No. RP97-431-009, which approved, subject to several modifications, a Stipulation and Agreement (Settlement) filed by Natural in this docket on June 16, 2000. Natural states that the Settlement relates to Natural's procedures for the posting and awarding of firm capacity.

Natural requested waiver of the Commission's Regulations to the extent necessary to permit the tendered tariff sheets to become effective December 1, 2000.

Natural states that copies of the filing are being mailed to Natural's customers, interested state regulatory agencies and all parties set out on the official service list in Docket No. RP97-431.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at

http://www.ferc.fed.us/online/rims.htm (call 202-208-222 for assistance).

Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29702 Filed 11-20-00; 8:45 am]

BILLING CODE 6717-01-M